DEPARTMENT OF COMMERCE

National Oceanic and Atmospheric Administration

[I.D. 122006A]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Habitat/Marine Protected Area (MPA)/Ecosystem Committee in January, 2007, to consider actions affecting New England fisheries in the exclusive economic zone (EEZ). Recommendations from this group will be brought to the full Council for formal consideration and action, if appropriate.

DATES: The meeting will be held on Tuesday, January 16, 2007, at 9:30 a.m.

ADDRESSES: The meeting will be held at the Courtyard by Marriott, 32 Exchange Terrace, Providence, RI 02903; telephone: (401) 272-1191; fax: (401) 752-3042.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will review and update Essential Fish Habitat (EFH) designations. The committee will also consider designation of Habitat Areas of Particular Concern. In addition, the committee will have an update of prey species description for species in the Fishery Management Unit and an update on non-fishing impacts. The Committee will consider other topics at their discretion including, but not limited to, actionable items related to the EFH Omnibus Amendment.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: December 20, 2006.
Tracey L. Thompson,
Acting Director, Office of Sustainable Fisheries, National Marine Fisheries Service.

[FR Doc. E6-22054 Filed 12-22-06; 8:45 am]

BILLING CODE 3510-22-S